FEDERAL RESERVE SYSTEM

Formations of, Acquisitions by, and Mergers of Bank Holding Companies; Correction

This notice corrects a notice (FR Doc. 2011-17878) published on pages 41794 and 41795 of the issue for Friday, July 15, 2011.

Under the Federal Reserve Bank of Richmond heading, the entry for BCSB Bancorp, Inc., Baltimore, Maryland, is revised to read as follows:

A. Federal Reserve Bank of Richmond (Adam M. Drimer, Assistant Vice President) 701 East Byrd Street, Richmond, Virginia 23261-4528:

1. BCSB Bancorp, Inc., Baltimore, Maryland, to become a bank holding company by acquiring 100 percent of the voting shares of Baltimore County Savings Bank Federal Savings Bank, Baltimore, Maryland, upon its conversion to a state-chartered commercial bank.

In connection with this application, applicant has also applied to engage in lending activities, pursuant to section 225.28(b)(1) of Regulation Y.

Comments on this application must be received by August 11, 2011.

Board of Governors of the Federal Reserve System, July 25, 2011.
Robert deV. Frierson,
Deputy Secretary of the Board.

[FR Doc. 2011-19099 Filed 7-27-11; 8:45 am]

BILLING CODE 6210-01-P